NUCLEAR REGULATORY COMMISSION

[Docket No. 72-11-50-312]

In the Matter of Sacramento Municipal Utility District Rancho Seco Independent Spent Fuel Storage Installation; Exemption

I

Sacramento Municipal Utility District (SMUD), the licensee, holds Materials License SNM-2510 for receipt and storage of spent fuel from the Rancho Seco Nuclear Generating Station at an Independent Spent Fuel Storage Installation (ISFSI) located on the Rancho Seco Nuclear Generating Station site. The facility is located in Sacramento County, California.

II

Pursuant to 10 CFR 72.7, the Nuclear Regulatory Commission (NRC) may grant exemptions from the requirements of the regulations in 10 CFR Part 72 as it determines are authorized by law, will not endanger life or property or the common defense and security, and are otherwise in the public interest.

Section 72.72(d) of 10 CFR Part 72 requires each licensee to keep duplicate records of spent fuel and high-level radioactive waste in storage. The duplicate set of records must be kept at a separate location sufficiently remote from the original records that a single event would not destroy both sets of records. The applicant stated that, pursuant to 10 CFR 72.140(d), the Rancho Seco Quality Manual (RSQM) will be used to satisfy the Quality Assurance (QA) requirements for the ISFSI. The RSQM states that QA records are maintained 2 in accordance with commitments to ANSI/ASME, NQA-1-1983, Supplement 17S-1 and ANSI N45.2.9-1974. ANSI/ASME, NQA-1-1983, Supplement 17S-1 and ANSI N45.2.9-1974 allow for the storage of QA records in a duplicate storage location sufficiently remote from the original records or in a single record storage facility subject to certain provisions designed to protect the records from fire and other adverse conditions. The applicant seeks to streamline and standardize recordkeeping procedures and processes for the Rancho Seco Nuclear Generating Station and ISFSI spent fuel records. The applicant states that requiring a separate method of record storage for ISFSI records diverts resources unnecessarily.

ANSI/ASME, NQA-1-1983, Supplement 17S-1 and ANSI N45.2.9-1974 provide requirements for the protection of nuclear power plant QA records against degradation. They specify design requirements for use in the construction of record storage facilities when use of a single storage facility is desired. They include specific requirements for protection against degradation mechanisms such as fire, humidity, and condensation. The requirements in ANSI/ASME NQA-1-1983, Supplement 17S-1 and ANSI N45.2.9-1974 have been endorsed by the NRC in Regulatory Guide 1.88, “Collection, Storage and Maintenance of Nuclear Power Plant Quality Assurance Records,” as adequate for satisfying the recordkeeping requirements of 10 CFR Part 50, Appendix B. ANSI/ASME, NQA-1-1983, Supplement 17S-1 and ANSI N45.2.9-1974 also satisfy the requirements of 10 CFR 72.72 by providing for adequate maintenance of records regarding the identity and history of the spent fuel in storage. Such records would be subject to and need to be protected from the same types of degradation mechanisms as nuclear power plant QA records.

III

By letter dated December 13, 2000, SMUD requested an exemption from the requirement in 10 CFR 72.72(d) which states in part that “Records of spent fuel and high-level radioactive waste in storage must be kept in duplicate. The duplicate set of records must be kept at a separate location sufficiently remote from the original records that a single event would not destroy both sets of records.” The applicant proposes to maintain a single set of spent fuel records in storage at a record facility that satisfies the requirements set forth in ANSI/ASME, NQA-1-1983, Supplement 17S-1 and ANSI N45.2.9-1974.

IV

The staff considered the applicant's request and determined that granting the proposed exemption from the requirements of 10 CFR 72.72(d) is authorized by law, will not endanger life or property or the common defense and security, and is otherwise in the public interest. The staff grants the exemption, subject to the following conditions:

(1) SMUD may maintain records of spent fuel and high-level radioactive waste in storage either in duplicate as required by 10 CFR 72.72(d), or alternatively, a single set of records may be maintained at a record storage facility that satisfies the standards set forth in ANSI/ASME, NQA-1-1983, Supplement 17S-1 and ANSI N45.2.9-1974.

(2) All other requirements of 10 CFR 72.72(d) shall be met.

The documents related to this proposed action are available for public inspection and for copying (for a fee) at the Commission's Public Document Room, One White Flint North Building, 11555 Rockville Pike, Rockville, Maryland 20852, or from the publicly available records component of NRC's Agencywide Documents Access and Management System (ADAMS). ADAMS is accessible from the NRC web site at http://www.nrc.gov/NRC/ADAMS/index.html (the Public Electronic Reading Room).

Pursuant to 10 CFR 51.35, NRC has published its finding that granting this exemption will have no significant impact on the quality of the human environment in the Federal Register (66 FR 11610).

This exemption is effective upon issuance.

Dated at Rockville, Maryland this 15th day of March 2001.
For The Nuclear Regulatory Commission.
E. William Brach,
Director, Spent Fuel Project Office, Office of Nuclear Material Safety and Safeguards.

[FR Doc. 01-7354 Filed 3-23-01; 8:45 am]

BILLING CODE 7590-01-P